DEPARTMENT OF DEFENSE

Department of the Navy

Notice of Availability of the Draft Supplemental Environmental Impact Statement for the Disposal and Reuse of Hunters Point Naval Shipyard, San Francisco, CA, and To Announce Public Hearings

AGENCY: Department of the Navy, DoD.

ACTION: Notice.

SUMMARY: Pursuant to Section 102(2)(C) of the National Environmental Policy Act (NEPA) of 1969, as implemented by the Council on Environmental Quality regulations (40 CFR parts 1500-1508), the Department of the Navy (Navy) has prepared and filed the Draft Supplemental Environmental Impact Statement (SEIS) evaluating the potential environmental consequences associated with the disposal and reuse of Hunters Point Naval Shipyard (HPS), San Francisco, California. The Navy is required to dispose of HPS per Public Law 101-510, the Defense Base Closure and Realignment Act of 1990, as amended. A public hearing will be held to provide information and receive oral and written comments on the Draft SEIS. Federal, State, and local agencies and interested individuals are invited to be present or represented at the hearing.

Dates and Addresses: One public hearing will be held. The hearing will be preceded by an open information session to allow interested individuals to review information presented in the Draft SEIS. Navy representatives will be available during the information session to provide clarification as necessary related to the Draft SEIS. The public hearing is scheduled as follows: Tuesday, March 15, 2011, from 6:30 p.m. to 8:30 p.m. at the Southeast Community Facility Community Center, Alex L. Pitcher, Jr. Community Room, 1800 Oakdale Avenue, San Francisco, California 94124. The open information session will be held on the same date and at the same location, from 5:30 p.m. to 6:30 p.m.

FOR FURTHER INFORMATION CONTACT: Director, BRAC PMO West, Attn: Mr. Ronald Bochenek, 1455 Frazee Road, Suite 900, San Diego, CA 92108-4310, telephone 619-532-0906, fax 619-532-9858, e-mail: ronald.bochenek.ctr@navy.mil.

SUPPLEMENTARY INFORMATION: The Navy, as lead agency, has prepared and filed the Draft SEIS for the Disposal and Reuse of Hunters Point Shipyard, San Francisco, California in accordance with the requirements of the NEPA of 1969 (42 U.S.C. 4321-4345) and its implementing regulations (40 CFR parts 1500-1508). A Notice of Intent (NOI) for the SEIS was published in the Federal Register on September 5, 2008 (Federal Register/Vol. 73, No. 173 pgs 51797 & 51798/Friday, September 5, 2008/Notices). The purpose of the proposed action is the disposal of HPS from Federal ownership (864 acres [421 acres dry land & 443 acres submerged]) and its subsequent reuse by the County and City of San Francisco in a manner consistent with the Hunters Point Naval Shipyard Redevelopment Plan as developed by the San Francisco Redevelopment Agency (SFRA) in July 1997, and amended in August 2010. The Navy is required to close HPS in accordance with Public Law 101-510, the Defense Base Closure and Realignment Act of 1990, as amended. In accordance with NEPA, before disposing of any real property, the Navy must analyze the environmental effects of the disposal of the HPS property. The Draft SEIS has identified and considered six reuse alternatives for HPS and a no action alternative. Navy disposal is assumed as part of each reuse alternative. The no action alternative assumes retention of the HPS property by the Government in a “caretaker status” and no reuse or redevelopment.

Alternative 1, Stadium Plan Alternative, would redevelop HPS with a wide range of uses including a mixed-use community with 2,650 residential units, retail (125,000 square feet (sq ft)), research and development (R&D) (2.5 million sq ft), community services (50,000 sq ft), and parks and recreational open space (232 acres). A major component would include a new 69,000-seat football stadium. This alternative would also include a 300-slip marina, improvements to stabilize the shoreline, and a new bridge over Yosemite Slough. New infrastructure would serve the development as necessary.

Alternative 1A (the “Stadium Plan/No Bridge Alternative”) includes the disposal of HPS by the Navy and its reuse with the same level, land use types, and density of development as Alternative 1, except that the Yosemite Slough bridge would not be constructed.

Alternative 2 (the “Non-Stadium Plan/Additional R&D Alternative”) includes many of the same components as Alternative 1 including 2,650 residential units, retail (125,000 sq ft), community services (50,000 sq ft), and parks and recreational open space (222 acres), a 300-slip marina, improvements to stabilize the shoreline, and a new bridge over Yosemite Slough. Under this alternative, a new football stadium would not be constructed. Instead, an additional 2.5 million sq ft, for a total of 5 million sq ft, of R&D space would be developed.

Alternative 2A (the “Non-Stadium Plan/Housing and R&D Alternative”) includes a mix of uses including 4,275 residential units, retail (125,000 sq ft), R&D (3 million sq ft), community services (50,000 sq ft), and parks and recreational open space (222 acres). This alternative would also include a 300-slip marina, improvements to stabilize the shoreline, and a new bridge over Yosemite Slough. No new football stadium would be constructed.

Alternative 3 (the “Non-Stadium Plan/Additional Housing Alternative”) does not include a new stadium, but is comprised of a mix of land uses including 4,000 residential units, retail (125,000 sq ft), R&D (2.5 million sq ft), community services (50,000 sq ft), and parks and recreational open space (245 acres). The alternative also includes a 300-slip marina, improvements to stabilize the shoreline, and a new bridge over Yosemite Slough.

Alternative 4 (“the Non-Stadium Plan/Reduced Development Alternative”) includes a reduced density of development. Development proposed under this alternative includes 1,855 residential units, retail (87,500 sq ft), R&D (1.75 million sq ft), community services (50,000 sq ft), and parks and recreational open space (245 acres). This alternative does not include a new stadium, a bridge over Yosemite Slough, a marina, or shoreline stabilization.

The “No Action Alternative” is required by NEPA and evaluates the impacts at HPS in the event that the property is not disposed. Under this alternative the property would be retained by the Navy in caretaker status. Existing leases would continue until they expire or are terminated, and no new leases would be entered into. No reuse or redevelopment would occur under this alternative.

For each alternative, the Draft SEIS addresses the potential direct, indirect, short-term, and long-term impacts on the human and natural environments, including the following resource areas: Transportation, traffic, and circulation; air quality and greenhouse gases; noise; land use and recreation; visual resources and aesthetics; socioeconomics; hazards and hazardous substances; geology and soils; water resources; utilities; public services; cultural resources; biological resources; and environmental justice. The analysis also includes an analysis of cumulative impacts from other reasonably foreseeable Federal, State, or local activities at and around HPS.

The Navy conducted a public scoping period from September 5 to October 17, 2008, and held a public scoping meeting on September 23, 2008, to identify community concerns and local issues that should be addressed in the SEIS. Federal, State, and local agencies and interested parties provided oral and written comments to the Navy and identified specific issues or topics of environmental concern that should be addressed in the SEIS. In addition, the Navy facilitated additional community outreach activities to solicit comments and concerns from interested community groups in 2009. The Navy considered the scoping and outreach comments in determining the scope of the SEIS.

Federal, State, and local agencies, as well as interested parties, are invited and encouraged to review and comment on the Draft SEIS. Comments can be made in the following ways: (1) Oral statements or written comments at the scheduled public hearing; or (2) written comments mailed to the BRAC PMO address in this notice; or (3) written comments faxed to the BRAC PMO fax number in this notice; or (4) comments submitted via e-mail using the BRAC PMO e-mail address in this notice.

The Draft SEIS has been distributed to various Federal, State, local agencies, and Native American tribes, as well as other interested individuals and organizations. In addition, copies of the Draft SEIS have been distributed to the following libraries and publicly accessible facilities for public review:

1. San Francisco Main Library, 100 Larkin Street, San Francisco, CA 94102.

2. San Francisco State University Library, 1360 Holloway Avenue, San Francisco, CA 94132.

3. Hastings Law Library, UC Hastings College of the Law, 200 McAllister Street, 4th Floor, San Francisco, CA 94102.

4. Jonsson Library of Government Documents, Cecil H. Green Library, Bing Wing, Stanford, CA 94305-6004.

5. Institute of Governmental Studies Library, UC Berkeley, 109 Moses Hall, #2370, Berkeley, CA 94720.

6. San Francisco Redevelopment Agency (By Appointment), One South Van Ness Avenue, Fifth Floor, San Francisco, CA 94103.

7. City Planning Department (By Appointment), 1650 Mission Street, Fourth Floor, San Francisco, CA 94103.

An electronic copy of the Draft SEIS is also available for public viewing at http://www.bracpmo.navy.mil.

Equal weight will be given to comments received at the scheduled public hearing and those directly forwarded to BRAC PMO. In the interest of available time, and to ensure all who wish to give oral statements at the public hearing the opportunity to do so, each speaker's comments will be limited to three minutes. If a longer statement is to be presented, it should be summarized at the public hearing and the full text submitted in writing either at the hearing or mailed or e-mailed to the below address. To ensure the accuracy of the record, all statements presented orally at the public hearings should be submitted in writing.

Comments can be submitted in writing or e-mailed to: Director, BRAC PMO West, Attn. Mr. Ronald Bochenek, 1455 Frazee Road, Suite 900, San Diego, CA 92108-4310, telephone 619-532-0906, fax 619-532-9858, e-mail: ronald.bochenek.ctr@navy.mil.

To be considered, all comments must be received by Tuesday, April 12, 2011. Such comments will become part of the public record and will be responded to in the Final SEIS.

Requests for special assistance, sign language interpretation for the hearing impaired, language interpreters, or other auxiliary aids for the scheduled public hearing must be sent by mail or e-mail to BRAC PMO West, Attn: Mr. Ronald Bochenek, 1455 Frazee Road, Suite 900, San Diego, CA 92108-4310, e-mail: ronald.bochenek.ctr@navy.mil.

Dated: February 15, 2011.
D.J. Werner,
Lieutenant Commander, Judge Advocate General's Corps, U.S. Navy, Federal Register Liaison Officer.

[FR Doc. 2011-3966 Filed 2-22-11; 8:45 am]

BILLING CODE 3810-FF-P